DEPARTMENT OF ENERGY

Federal Energy Regulatory Commission

[Project No. 13257-001]

Modern Hydro; Notice of Intent To File License Application, Filing of Pre-Application Document, and Approval of Use of the Traditional Licensing Process

April 9, 2009.

a. Type of Filing: Notice of Intent to File License Application and Request to Use the Traditional Licensing Process.

b. Project No.: 13257-001.

c. Dated Filed: March 2, 2009.

d. Submitted By: Modern Hydro.

e. Name of Project: Lake Delhi Dam Hydroelectric Project.

f. Location: The project would be located at the Lake Delhi Recreation Association's Lake Delhi Dam on the Maquoketa River in Delaware County, Iowa.

g. Filed Pursuant to: 18 CFR 5.3 of the Commission's regulations.

h. Applicant Contact: Dwight Shanak, Modern Hydro, N3322 Sunrise Lane, Waupaca, WI 54981, (715) 258-5720.

i. FERC Contact: Dr. Nicholas Palso, (202) 502-68854 or nicholas.palso@ferc.gov.

j. Modern Hydro filed its request to use the Traditional Licensing Process on March 2, 2009. Modern Hydro filed public notice of its request on March 12, 2009. In a letter dated April 8, 2009, the Director of the Office of Energy Projects approved Modern Hydro's request to use the Traditional Licensing Process.

k. With this notice, we are approving Modern Hydro's request to be designated as the non-federal representative for section 7 of the Endangered Species Act and its request to initiate consultation under section 106 of the National Historic Preservation Act; and recommending that it begin informal consultation with: (a) The U.S. Fish and Wildlife Service; and (b) the Iowa State Historic Preservation Officer, as required by section 106, National Historical Preservation Act, and the implementing regulations of the Advisory Council on Historic Preservation at 36 CFR 800.2.

l. Modern Hydro filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/docs-filing/esubscription.asp to be notified via e-mail of new filing and issuances related to this or other pending projects. For assistance, contact FERC Online Support.

Kimberly D. Bose,
Secretary.

[FR Doc. E9-8803 Filed 4-16-09; 8:45 am]

BILLING CODE 6717-01-P